ENVIRONMENTAL PROTECTION AGENCY

[EPA-HQ-OW-2008-0878.1; FRL-9916-15-OW]

Notice of Public Meeting and Webinar: Distribution System Storage Facility Inspection and Cleaning

AGENCY: Environmental Protection Agency (EPA).

ACTION: Notice of public meeting.

SUMMARY: The U.S. Environmental Protection Agency (EPA) Office of Ground Water and Drinking Water announces a public meeting and webinar on Distribution System Storage Facility Inspection and Cleaning. The purpose of the meeting and webinar is to gather input and information from the public and stakeholders on distribution system water storage facility inspection and cleaning and other risk management approaches to help maintain facility integrity and finished water quality. The presenters and panelists will provide background information concerning storage facility inspection and cleaning, existing state programs and available guidance documents. Opportunity for public comment will be provided as described in the SUPPLEMENTARY INFORMATION section.

DATES: The public meeting and webinar will be held on Wednesday, October 15, 2014, from 12 p.m. to 5 p.m., Eastern Time. Persons wishing to attend the meeting in-person or online via webinar must register by October 8, 2014, as described in the SUPPLEMENTARY INFORMATION section.

ADDRESSES: The public meeting will be held at The Cadmus Group, Inc., third floor conference room located at 1555 Wilson Blvd., Suite 300, Arlington, VA 22209. All attendees must show government-issued photo identification (e.g., a driver's license) when signing in. This meeting will also be simultaneously broadcast as a webinar, available on the Internet.

FOR FURTHER INFORMATION CONTACT: Members of the public who wish to receive further information about the meeting and webinar or have questions about this notice should contact Sean Conley, Standards and Risk Management Division, Office of Ground Water and Drinking Water (MC 4607M), U.S. Environmental Protection Agency, 1200 Pennsylvania Avenue NW., Washington, DC 20460; telephone number: (202) 564-1781; email address: conley.sean@epa.gov.

SUPPLEMENTARY INFORMATION:

I. General Information

A. How may I participate in this meeting/webinar?

Persons wishing to attend the meeting in person or online via the webinar must register in advance no later than 5 p.m., Eastern Time on October 8, 2014, by sending an email to: SFIWebinar@cadmusgroup.com. The agenda for the public meeting and webinar will include time for public involvement. To ensure adequate time for public involvement, individuals or organizations interested in making a statement should mention their interest when they register. All presentation materials should be emailed to SFIWebinar@cadmusgroup.com by October 8, 2014, so that the information can be incorporated into the webinar. We ask that only one person present the statement on behalf of a group or organization, and that the statement be limited to five minutes. Any additional comments or written statements from attendees will be taken if time permits or can be sent to SFIWebinar@cadmusgroup.com after the public meeting and webinar. The number of seats and webinar connections available for the meeting is limited and will be available on a first-come, first-served basis.

B. How can I get a copy of the meeting/webinar materials?

The meeting materials will be sent by email to the registered attendees prior to the public meeting and webinar; copies will also be provided for attendees at the meeting. Meeting materials and information about registration and participation in the meeting and webinar can be found on the EPA's Distribution Systems Web page: http://water.epa.gov/lawsregs/rulesregs/sdwa/tcr/distributionsystems.cfm.

Special Accommodations: Individuals with disabilities who wish to attend the meeting in person can request special accommodations by contacting SFIWebinar@cadmusgroup.com no later than October 3, 2014, to give the EPA as much time as possible to process the request.

II. Background

In the Federal Register notice for the proposed Revisions to the Total Coliform Rule (75 FR 40926, July 14, 2010), the EPA requested comment on the value and cost of periodic distribution system storage tank inspection and cleaning. The EPA received comments regarding unsanitary conditions and contamination that can be found in storage facilities, which are not routinely inspected and cleaned, including breaches and accumulation of sediment, animals, insects and other contaminants. Some commenters suggested the need for a Federal regulation requiring systematic inspection and cleaning because the existing practices are not successful in all cases. Others suggested that regular sanitary surveys conducted by States and the adherence to existing industry guidance could resolve such issues. The comments can be reviewed in the docket for the rule at http://www.regulations.gov/#!documentDetail;D=EPA-HQ-OW-2008-0878-0283. This meeting and webinar and the subsequent opportunity to submit comments are intended to collect more data and information about the frequency of distribution system water storage facility inspection and cleaning and the need for more or better risk management approaches.

Dated: August 25, 2014.
Eric Burneson,
Acting Director, Office of Ground Water and Drinking Water.

[FR Doc. 2014-21073 Filed 9-3-14; 8:45 am]

BILLING CODE 6560-50-P